DEPARTMENT OF HEALTH AND HUMAN SERVICES

Food and Drug Administration

[Docket No. 02F-0160]

The Minute Maid Co.; Filing of Food Additive Petition

AGENCY: Food and Drug Administration, HHS.

ACTION: Notice.

SUMMARY: The Food and Drug Administration (FDA) is announcing that The Minute Maid Co. has filed a petition proposing that the food additive regulations be amended to provide for the safe use of Vitamin D3 in calcium-fortified fruit juices and fruit drinks.

FOR FURTHER INFORMATION CONTACT: Judith L. Kidwell, Center for Food Safety and Applied Nutrition (HFS-265), Food and Drug Administration, 5100 Paint Branch Pkwy., College Park, MD 20740-3835, 202-418-3354.

SUPPLEMENTARY INFORMATION: Under the Federal Food, Drug, and Cosmetic Act (sec. 409(b)(5) (21 U.S.C. 348(b)(5))), notice is given that a food additive petition (FAP 2A4734) has been filed by The Minute Maid Co., c/o King and Spalding, 1700 Pennsylvania Ave. NW., Washington, DC 20006. The petition proposes to amend the food additive regulations in Part 172—Food Additives Permitted for Direct Addition to Food for Human Consumption (21 CFR part 172) to provide for the safe use of Vitamin D3 as a nutrient supplement in calcium-fortified fruit juices and fruit drinks.

The agency has determined under 21 CFR 25.32(k) that this action is of a type that does not individually or cumulatively have a significant effect on the human environment. Therefore, neither an environmental assessment nor an environmental impact statement is required.

Dated: March 29, 2002.
Alan M. Rulis,
Director, Office of Food Additive Safety, Center for Food Safety and Applied Nutrition.

[FR Doc. 02-10087 Filed 4-24-02; 8:45 am]

BILLING CODE 4160-01-S